FEDERAL DEPOSIT INSURANCE CORPORATION

Agency Information Collection Activities: Proposed Information Collection Renewal; Comment Request

AGENCY: Federal Deposit Insurance Corporation (FDIC).

ACTION: Notice and request for comment.

SUMMARY: The FDIC, as part of its continuing effort to reduce paperwork and respondent burden, invites the general public and other Federal agencies to comment on the proposed extension of a continuing information collection, as required by the Paperwork Reduction Act of 1995. The FDIC may not conduct or sponsor, and a respondent is not required to respond to, an information collection unless it displays a currently valid Office of Management and Budget (OMB) control number. Currently, the FDIC is soliciting comment concerning the proposed extension of OMB approval of its information collection, entitled “Community Reinvestment Act,” OMB Control No. 3064-0092.

DATES: Comments should be submitted by February 1, 2011.

ADDRESSES: Interested parties are invited to submit written comments. All comments should refer to the name of the collection. Comments may be submitted by any of the following methods:

• http://www.FDIC.gov/regulations/laws/federal/propose.html.

• E-mail: comments@fdic.gov.

• Mail: Leneta G. Gregorie (202.898.3719), Counsel, Federal Deposit Insurance Corporation, PA1730-3000, 550 17th Street, NW., Washington, DC 20429.

• Hand Delivery: Comments may be hand-delivered to the guard station at the rear of the 550 17th Street Building (located on F Street), on business days between 7 a.m. and 5 p.m.

All comments should refer to the relevant OMB control number. Comments may also be submitted to the OMB Desk Officer for the FDIC, Office of Information and Regulatory Affairs, Office of Management and Budget, New Executive Office Building, Room 10235, Washington, DC 20503. All comments will become a matter of public record.

FOR FURTHER INFORMATION CONTACT: For further information about the information collection discussed in this notice, please contact Leneta G. Gregorie, by telephone at (202) 898-3719 or by mail at the address identified above.

SUPPLEMENTARY INFORMATION: The FDIC is proposing to renew the following information collection.

Title: Community Reinvestment Act.

OMB Control No.: 3064-0092.

Affected Public: Insured state nonmember banks.

Estimated Number of Respondents: 5,296.

Frequency of Response: Annually.

Estimated Average Time per Response: 36.6 hours.

Estimated Annual Burden: 193,975 hours.

Abstract: This submission covers an extension of the FDIC's currently approved information collections in its CRA regulations (12 CFR Part 345). The FDIC needs the information collected to fulfill its obligations under the CRA (12 U.S.C. 2901 et seq.) to evaluate and assign ratings to the performance of institutions, in connection with helping to meet the credit needs of their communities, including low- and moderate-income neighborhoods, consistent with safe and sound banking practices. The FDIC uses the information in the examination process and in evaluating applications for mergers, branches, and certain other corporate activities. Financial institutions maintain and provide the information to the Agencies.

Comments

Comments submitted in response to this notice will be summarized in the request for OMB approval. All comments will become a matter of public record. Comments are invited on:

(a) Whether the collection is necessary for the proper performance of the functions of the agency, including whether the information has practical utility;

(b) The accuracy of the agency's estimate of the burden of the collection of information;

(c) Ways to enhance the quality, utility, and clarity of the information to be collected; and

(d) Ways to minimize the burden of the collection on respondents, including through the use of automated collection techniques or other forms of information technology.

Dated at Washington, DC, November 29, 2010.
Federal Deposit Insurance Corporation.
Robert E. Feldman,
Executive Secretary.

[FR Doc. 2010-30313 Filed 12-2-10; 8:45 am]

BILLING CODE 6714-01-P